DEPARTMENT OF STATE

[Public Notice 6224]

Shipping Coordinating Committee; Notice of Subcommittee Meetings

Various subcommittees of the Shipping Coordinating Committee (SHC) will be holding public meetings in May 2008. Members of the public may attend these meetings up to the seating capacity of the rooms. Details for the meetings are provided in this notice.

I. Flag State Implementation

The SHC's Subcommittee on Flag State Implementation will conduct an open meeting at 1:30 p.m. on Thursday, May 22, 2008, in Room 2415 of the U.S. Coast Guard Headquarters Building, 2100 2nd Street, SW., Washington, DC, 20593. The primary purpose of the meeting is to prepare for the 16th Session of the International Maritime Organization (IMO) Sub-Committee on Flag State Implementation to be held at IMO Headquarters in London, United Kingdom from June 2 to June 6, 2008. The primary matters to be considered include:

—Responsibilities of Governments and measures to encourage flag State compliance;

—Port State Control (PSC) Guidelines on seafarers' working hours;

—Harmonization of port State control activities;

—Comprehensive analysis of difficulties encountered in the implementation of IMO instruments;

—Mandatory reports under International Convention for the Prevention of Pollution from Ships, 1973, as modified by the Protocol of 1978 (MARPOL 73/78);

—Casualty statistics and investigations;

—Review of the Code for the Implementation of Mandatory IMO Instruments;

—Review of the Survey Guidelines under the Harmonized System of Survey and Certification (HSSC)—(resolution A.948(23));

—Development of guidelines on port State control under the 2004 Ballast Water Management (BWM) Convention;

—Port reception facilities-related issues;

—Illegal, unregulated and unreported (IUU) fishing and implementation of resolution A.925(22); and

—Consideration of International Association of Classification Societies (IACS) unified interpretations.

Members of the public may attend this meeting up to the seating capacity of the room. To facilitate the building security process, those who plan to attend should call or send an e-mail message at least two days before the SHC subcommittee meeting to Emanuel.J.TerminellaJr@uscg.mil. Interested persons may seek additional information by writing to Mr. E.J. Terminella, Commandant (CG-5432), U.S. Coast Guard Headquarters, 2100 Second Street, SW., Room 1116, Washington, DC 20593-0001, by calling (202) 372-1239, or by e-mail.

II. IMO Administration and Budgeting; IMO Technical Cooperation

The SHC's Subcommittee on IMO Administration and Budgeting and the SHC's Subcommittee on IMO Technical Cooperation will conduct an open meeting at 10 a.m. on Tuesday, May 27, 2008 in Room 4420, at U.S. Coast Guard Headquarters, 2100 2nd Street, SW., Washington, DC, 20593. The purpose of this meeting will be to finalize preparations for the 100th Session of IMO's Council and the 58th Session of IMO's Technical Co-Operation Committee.

The 100th Session of IMO's Council is scheduled for 16-20 June, 2008 in London, United Kingdom. At the May 27th SHC subcommittee meeting, papers received and draft U.S. positions will be discussed. The Council items of interest include:

—Report of the Secretary-General on credentials;

—Strategy and planning;

—Program for change;

—Resource management;

—Voluntary IMO Member State Audit Scheme;

—Protection of vital shipping lanes;

—Consideration of the report of the Marine Environment Protection Committee;

—Consideration of the report of the Maritime Safety Committee;

—Consideration of the report of the Technical Co-operation Committee;

—Technical Co-operation Fund: Report on activities of the 2006-2007 programme;

—Report on the 29th Consultative Meeting of Contracting Parties to the London Convention 1972 and the 2nd Meeting of Contracting Parties to the 1996 Protocol to the London Convention;

—World Maritime University;

—IMO International Maritime Law Institute;

—External relations;

—Report on the status of the Convention and membership of the Organization;

—Report on the status of conventions and other multilateral instruments in respect of which the Organization performs functions; and

—Date and place of the next session of the Council.

The 58th Session of IMO's Technical Co-Operation (TC) Committee is scheduled for 10-12 June, 2008 in London, United Kingdom. At the May 27th SHC subcommittee meeting, papers received and the draft U.S. positions for TC 58 will be discussed. The TC Committee items of particular interest include:

—Integrated Technical Co-operation Programme (ITCP);

—Financing the Integrated Technical Co-operation Programme (ITCP);

—Impact assessment of technical co-operation activities during 2004-2007;

—Partnership for progress;

—Voluntary IMO Member State Audit Scheme;

—Programme on the integration of women in the maritime sector;

—Institutional development and fellowships;

—Work of other bodies and organizations;

—Rules of Procedure and Methods of Work of the TC Committee; and

—Election of the Chairman and Vice-Chairman for 2009.

Members of the public may attend the May 27th SHC subcommittee meeting up to the seating capacity of the room. Interested persons may seek information by writing to LCDR Jason Smith, Commandant (CG-5212), U.S. Coast Guard Headquarters, 2100 2nd Street, SW., Room 1218, Washington, DC 20593-0001 or by calling (202) 372-1376.

Dated: May 9, 2008.
Mark Skolnicki,
Executive Secretary, Shipping Coordinating Committee, Department of State.

[FR Doc. E8-11066 Filed 5-15-08; 8:45 am]

BILLING CODE 4710-09-P